FEDERAL HOUSING FINANCE BOARD

[No. 2005-N-02]

Proposed Collection; Comment Request

AGENCY: Federal Housing Finance Board.

ACTION: Notice.

SUMMARY: In accordance with the requirements of the Paperwork Reduction Act of 1995, the Federal Housing Finance Board (Finance Board) is seeking public comments concerning proposed changes to the information collection entitled “Affordable Housing Program (AHP),” which has been assigned control 3069-0006 by the Office of Management and Budget (OMB). The Finance Board intends to submit the entire AHP information collection, with the proposed changes described in this Notice, to OMB for review and approval of a three-year extension of the control number, which is due to expire on July 31, 2007.

DATES: Interested persons may submit comments on or before June 27, 2005.

COMMENTS: Submit comments by any of the following methods:

E-mail: comments@fhfb.gov.

Fax: 202-408-2580.

Mail/Hand Delivery: Federal Housing Finance Board, 1777 F Street NW., Washington, DC 20006, ATTENTION: Public Comments.

Federal eRulemaking Portal: http://www.regulations.gov. Follow the instructions for submitting comments. If you submit your comment to the Federal eRulemaking Portal, please also send it by e-mail to the Finance Board at comments@fhfb.gov to ensure timely receipt by the agency.

Include the following information in the subject line of your submission: Federal Housing Finance Board. Proposed Collection; Comment Request: Affordable Housing Program (AHP). 2005-N-02.

We will post all public comments we receive on this notice without change, including any personal information you provide, such as your name and address, on the Finance Board website at http://www.fhfb.gov/pressroom/pressroom_regs.htm.

FOR FURTHER INFORMATION CONTACT: Charles E. McLean, Associate Director, Community Investment and Affordable Housing Division, Office of Supervision, mcleanc@fhfb.gov, 202-408-2537, or Deattra D. Perkins, Community Development Specialist, Community Investment and Affordable Housing Division, Office of Supervision, perkinsd@fhfb.gov, 202-408-2527. You also can contact staff by facsimile at 202-408-2850 or regular mail to the Federal Housing Finance Board, 1777 F Street NW., Washington, DC 20006.

SUPPLEMENTARY INFORMATION:

A. Background

Section 10(j) of the Federal Home Loan Bank Act (Bank Act) requires the Finance Board to promulgate regulations under which each of the 12 Federal Home Loan Banks (Banks) must establish an Affordable Housing Program (AHP) to make subsidized advances to members engaged in lending for long term, low- and moderate-income, owner-occupied and affordable rental housing at subsidized interest rates. See 12 U.S.C. 1430(j). Section 10(j) also establishes the standards and requirements for making subsidized AHP advances to Bank members. Part 951 of the Finance Board regulations implements the statutory requirements and authorizes the Banks to make AHP funding decisions. See 12 CFR part 951.

Under the AHP, each Bank contributes at least 10 percent of its previous year's net earnings to subsidize the cost of affordable owner-occupied and rental housing targeted to individuals and families with incomes at or below 80 percent of the area median income. The Banks make the majority of the AHP subsidy available through a competitive program that requires members to submit applications on behalf of one or more sponsors of eligible housing projects. In 2004, the competitive program contributed $3.4 billion toward the construction of 31,000 housing units. Since its inception in 1990, the competitive program has contributed $35 billion toward the construction of 380,000 housing units.

The rest of the AHP subsidy is awarded through non-competitive homeownership set-aside programs under which each Bank annually can set aside an amount up to the greater of $3 million or 25 percent of its AHP funds to assist low- and moderate-income households purchase homes. A Bank also may contribute up to the greater of $1.5 million or 10 percent of its AHP funds each year to fund an additional set-aside program to assist low- and moderate-income households that also are first-time homebuyers. Members obtain AHP set-aside funds from their Bank and give the funds as grants to eligible households. A household can use a set-aside grant for down-payment or closing cost assistance or counseling costs in connection with the purchase or rehabilitation of owner-occupied units. Each Bank sets its own maximum grant amount, which may not exceed $15,000 per household. In 2004, the Banks awarded $39 million in grants to 8,121 households under set-aside programs, making an average grant of $4,916. Since the inception of the set-aside program in 1995, the Banks have awarded $213 million in grants to 47,813 households.

B. Need for and Use of the Information Collection

The Finance Board currently requires the Banks to collect 183 data elements related to the AHP. The Banks use this data to determine whether an AHP applicant satisfies the statutory and regulatory requirements to receive subsidized advances or direct subsidies under the AHP. The Finance Board uses the information to ensure that Bank funding decisions, and the use of the funds awarded, are consistent with statutory and regulatory requirements.

In February 2005, the Finance Board proposed moving many of its data requirements, including the AHP data, into a Data Reporting Manual (DRM) that will represent an investigatory order enforceable through the Finance Board's statutory powers. 70 FR 9551 (Feb. 28, 2005). After the DRM is approved in final form, the Finance Board expects that the AHP information collection will move from part 951 to the DRM.

C. Proposed Changes to the Information Collection

In September 2004, Finance Board staff informally solicited input from the 12 Banks on proposed changes to AHP Data reporting and has taken their responses (nine from individual Banks and one from the Banks' Chief Investment Officers on behalf of all Banks) into account in the proposed changes it is seeking comment upon in this Notice.

The first proposed change would update the underlying AHP database application, which currently collects data from the Banks using a web-based system that is technologically obsolete. The new AHP database application will capture uniform and accurate data that can be easily queried and analyzed. Data submission from the Banks to the Finance Board will be in formatted files that can be created by a Bank in the manner it considers most efficient or convenient. In changing the manner in which it collects data, the Finance Board does not intend to require the Banks to modify or adopt new electronic information management systems. Therefore, the proposed changes to the database application should not result in significant electronic system upgrade costs to the Banks.

The second proposed change would reduce the number of AHP data elements, deleting 88 and adding 13, and change the reporting format for some data elements. The Finance Board currently collects 183 AHP data elements, most of which relate to competitive program projects. The Finance Board proposes eliminating 88 competitive program data elements, such as ongoing entry of project modification changes.

The Finance Board proposes adding 13 new data elements, including geo-coded information in competitive and set-aside program applications that is necessary to monitor the distribution of AHP awards and the national impact of the program. Respondents can obtain geo-coded information by entering the project/property address into the Federal Financial Institutions Examination Council (FFIEC) geo-coding Web site at http://www.ffiec.gov/geocode/default.htm or through use of specific software.

Other new elements include the amount of first and second mortgages and interest rate(s) (stated as an annual percentage rate) for a set-aside grant recipient's mortgage, and whether the mortgage is subject to the Home Ownership and Equity Protection Act (HOEPA).¹ The Finance Board needs this information to ensure that AHP subsidies provided by a Bank to a member are passed on to the ultimate borrower. See 12 U.S.C. 1430(j)(9)(E). The majority of Bank members already are required under other statutes² to collect the data the Finance Board proposes to add to the AHP database. Therefore, the incremental additional burden imposed to report the information to the Finance Board should be minimal.

¹ See 15 U.S.C. 1639; 12 CFR 226.31, et seq. For information about HOEPA go to: http://www.the.gov/bcp/conline/pubs/homes/32mortgs.htm.

² For instance, many Bank members already are required to collect geo-coding information and HOEPA status under the Home Mortgage Disclosure Act (HMDA). See 12 U.S.C. 2801 et seq. For information about HDMA reporting go to: http://www.ffiec.gov/hmda/about.htm. Members also are required to disclose the loan amount and interest rate to borrowers under the Truth in Lending Act (TILA). See 15 U.S.C. 1601 et seq. For information about TILA disclosure go to: http://www.occ.treas.gov/handbook/til/pdf#search=‘Truth%20in%20Lending%20Act’.

In order to reduce data entry time, the Finance Board is proposing to change reporting for 19 data elements from a numeric format to a categorical (yes/no) entry. The Finance Board also expects to reduce the reporting frequency for project level data from up to eight times a year to one annual report.

To facilitate public input on these proposed changes, Appendix A lists the proposed AHP data elements and Appendix B is a side-by-side chart listing the existing AHP data elements that will be retained or eliminated in the proposed database.

D. Burden Estimate

In a Federal Register notice published in May 2004 (69 FR 24600 (May 4, 2004)), the Finance Board analyzed the cost and hour burden for the seven facets of the AHP information collection—AHP applications, AHP modification requests, AHP monitoring agreements, AHP recapture agreements, homeownership assistance program applications, verifications of statutory and regulatory compliance at the time of subsidy disbursement, and Bank Advisory Council reports and recommendations on AHP implementation plans. The total annual hour burden for four of the seven facets will not be affected by the proposed changes to the AHP database. These four facets are the same as in the May 2004 Federal Register notice and are not repeated here. The three facets that will be affected—AHP applications, AHP modification requests, and homeownership assistance program applications—are described in detail below.

The estimate for the total hour burden for applicant and member respondents for all seven facets of the AHP information collection, including the proposed changes, is 61,313 hours, a decrease of 1,725 hours.

1. AHP Applications

The Finance Board estimates that the proposed changes to the AHP database would reduce the 25 hour processing time for each application by 1 hour. The Finance Board estimates a total annual average of 2,050 applicants for AHP funding, with 1 response per applicant. The estimate for the total annual hour burden for AHP applications is 49,200 hours (2,050 applicants × 1 application × 24 hours).

2. AHP Modification Requests

The Finance Board estimates that the reduction in reporting frequency that is part of the proposed changes to the AHP database would reduce the 3-hour processing time for each modification request by 30 minutes. The Finance Board estimates a total annual average of 150 requests, with 1 response per requestor. The estimate for the total annual hour burden for AHP modification requests is 375 hours (150 requestors × 1 request × 2.5 hours).

3. Homeownership Assistance Program Applications

The Finance Board estimates that the proposed changes to the AHP database would increase the 2-hour processing time for each application by 10 minutes. The Finance Board estimates a total annual average of 2,400 homeownership assistance program applications, with 1 application per respondent. The estimate for the total annual hour burden for homeownership assistance program applications is 5,200 hours (2,400 respondents x 1 application x 130 minutes).

E. Comment Request

1. Proposed Changes to the AHP Database

The Finance Board requests comments on the utility and practicality of the proposed data elements, including whether additional elements should be included, deleted, or modified.

2. Paperwork Reduction Act Burden Estimate

The Finance Board requests written comments on the following: (1) Whether the collection of information is necessary for the proper performance of Finance Board functions, including whether the information has practical utility; (2) the accuracy of the Finance Board's estimates of the burdens of the collection of information; (3) ways to enhance the quality, utility, and clarity of the information collected; and (4) ways to minimize the burden of the collection of information on respondents, including through the use of automated collection techniques or other forms of information technology.

Dated: April 19, 2005.
By the Federal Housing Finance Board.
Mark J. Tenhundfeld,
General Counsel.

BILLING CODE 6725-01-P

[FR Doc. 05-8333 Filed 4-25-05; 8:45 am]

BILLING CODE 6725-01-C